DEPARTMENT OF EDUCATION

Applications for New Awards; Expanding Opportunity Through Quality Charter Schools Program (CSP)—National Dissemination Grants

AGENCY: Office of Innovation and Improvement, Department of Education.

ACTION: Notice.

SUMMARY: The Department of Education is issuing a notice inviting applications for fiscal year (FY) 2018 for CSP— National Dissemination Grants, Catalog of Federal Domestic Assistance (CFDA) number 84.282T.

DATES:

Applications Available: June 5, 2018.

Date of Pre-Application Webinar: Thursday, June 7, 2018, 1:00 p.m., Washington, DC time.

Deadline for Transmittal of Applications: July 9, 2018.

Deadline for Intergovernmental Review: September 4, 2018.

ADDRESSES: For the addresses for obtaining and submitting an application, please refer to our Common Instructions for Applicants to Department of Education Discretionary Grant Programs, published in the Federal Register on February 12, 2018 (83 FR 6003) and available at www.gpo.gov/fdsys/pkg/FR-2018-02-12/pdf/2018-02558.pdf.

FOR FURTHER INFORMATION CONTACT: Hans Neseth, U.S. Department of Education, 400 Maryland Avenue SW, Room 4W224, Washington, DC 20202-5970. Telephone: (202) 401-4125. Email: hans.neseth@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The major purposes of the CSP are to expand opportunities for all students, particularly traditionally underserved students, to attend public charter schools (as defined in this notice) and meet challenging State academic standards; provide financial assistance for the planning, program design, and initial implementation of charter schools; increase the number of high-quality charter schools (as defined in this notice) available to students across the United States; evaluate the impact of charter schools on student achievement, families, and communities; share best practices between charter schools and other public schools; encourage States to provide facilities support to charter schools; and support efforts to strengthen the charter school authorizing process. Through CSP National Dissemination Grants (CFDA number 84.282T), the Department provides funds on a competitive basis to support efforts by eligible entities to support the charter school sector and increase the number of high-quality charter schools available to our Nation's students by disseminating best practices regarding charter schools.

Background: This notice invites applications from eligible applicants to disseminate best practices regarding charter schools consistent with the authority in section 4305(a)(3)(B) of the Elementary and Secondary Education of 1965, as amended by the Every Student Succeeds Act (ESEA). This notice contains a priority, definitions, and selection criteria from the ESEA and Department regulations, as well as priorities and application requirements that we are establishing in accordance with section 437(d)(1) of the General Education Provisions Act (GEPA), 20 U.S.C. 1232(d)(1).

The priorities included in this notice are consistent with the statutory purposes of the CSP and are intended to ensure that projects funded under CSP National Dissemination Grants address key national policy issues.

Specifically, the priorities require eligible applicants to propose to disseminate best practices for strengthening charter school authorizing and oversight or for improving charter school access to facilities and facility financing, and target funds on projects designed to help increase educational choice (as defined in this notice) for students with disabilities (as defined in this notice), English learners (as defined in this notice), and other traditionally underserved student groups. We encourage applicants to propose projects that enhance collaboration among charter schools, traditional public schools, and other stakeholders.

Priorities: This notice includes two absolute priorities and two competitive preference priorities—one that is within Absolute Priority 1 and one that applies to both Absolute Priority 1 and Absolute Priority 2. We are establishing the two absolute priorities and the competitive preference priority within Absolute Priority 1 for the FY 2018 grant competition and any subsequent year in which we make awards from the list of unfunded applications from this competition, in accordance with section 437(d)(1) of GEPA, 20 U.S.C. 1232(d)(1). The competitive preference priority applicable to both Absolute Priority 1 and Absolute Priority 2 is from the Department's notice of final supplemental priorities and definitions for discretionary grant programs, published in the Federal Register on March 2, 2018 (83 FR 9096) (Supplemental Priorities).

Absolute Priorities: These priorities are absolute priorities. Under 34 CFR 75.105(c)(3), we consider only applications that meet one of these priorities. An application must clearly identify the specific absolute priority that the proposed project addresses. An application must address either Absolute Priority 1 or Absolute Priority 2, but not both, in order to be considered for funding.

These priorities are:

Absolute Priority 1—Strengthening Charter School Authorizing and Oversight

Background

One of the primary statutory purposes of the CSP is to support efforts to strengthen the charter school authorizing process to improve performance management, including transparency, oversight and monitoring (including financial audits) and evaluation of charter schools. In addition, the CSP State Entities program has a strong focus on authorizing, including a requirement that grantees reserve a portion of funds to provide technical assistance to charter school authorizers and developers (as defined in this notice) and work with authorizers to improve authorizing quality. This priority supports that emphasis by prioritizing projects that propose to develop, identify, or expand, and disseminate information on, best practices in authorizing and the oversight of charter schools by public chartering agencies.

Authorizers are responsible for conducting rigorous application reviews to ensure new charter schools can be of high quality and for establishing clear and consistent policies to hold schools accountable for meeting their academic, financial, and operational performance goals and for complying with all applicable laws, including civil rights laws requiring equal access. Through this priority, the Department expects the implementation of strong authorizing practices will spread and improve the quality of the charter school sector.

Through a competitive preference priority for applications that address this absolute priority, we encourage applicants to focus their efforts on authorized public chartering agencies or States in which there is a need to build capacity in the authorizing process, including States that have recently enacted charter school laws, authorized public chartering agencies with relatively small portfolios of schools, and authorized public chartering agencies whose chartered school or schools are failing to meet performance or compliance requirements.

Priority

Projects that are designed to develop, identify, or expand, and disseminate information on, best practices in authorizing and the oversight of charter schools by public chartering agencies, including in one or more of the following areas:

(i) Conducting charter school application reviews;

(ii) Establishing governance standards and practices for charter schools;

(iii) Promoting and monitoring the compliance of charter schools and authorized public chartering agencies (as defined in this notice) with Federal, State, or local, academic, financial, operational (including school safety), or other applicable requirements;

(iv) Evaluating the performance of charter schools or authorized public chartering agencies;

(v) Facilitating the replication and expansion of high-quality charter schools;

(vi) Improving the academic, financial, or operational performance of charter schools; or

(vii) Closing persistently underperforming charter schools.

To meet this priority, an applicant must propose to disseminate best-practices information widely in more than one State with a charter school law.

Within this absolute priority, we give competitive preference to applications that address the following priority.

Competitive Preference Priority: For FY 2018 and any subsequent year in which we make awards from the list of unfunded applications from this competition, this priority is a competitive preference priority. Under 34 CFR 75.105(c)(2)(i) we award up to an additional five points to an application, depending on how well the application meets this priority.

In order to receive points under this priority, an applicant must identify its response to the priority in the project narrative section of its application and provide documentation supporting its response. If the applicant fails to clearly identify its response to the priority, the Department will not award points under the competitive preference priority.

This priority is:

Building Capacity in the Authorizing Process for Educational Agencies with the Most Need (Up to 5 points).

Projects that propose to target one or more of the following: States that have enacted laws in the last five years allowing charter schools to open; authorized public chartering agencies (as defined in this notice) with fewer than ten charter schools; and authorized public chartering agencies that authorize a significant number of charter schools experiencing significant low performance or non-compliance with academic, financial, governance, or operational (including school safety) requirements.

Absolute Priority 2—Improving Charter School Access to Facilities and Facility Financing

Background

Limited access to adequate facilities and to funding for facilities, including per-pupil facilities aid, remains a significant issue impacting growth in the number of charter schools available to our Nation's students. To help address this issue, this priority supports projects that develop, identify, or expand, and disseminate information on, best practices in supporting charter schools in accessing and financing facilities.

Priority

Projects that are designed to develop, identify, or expand, and disseminate information on, best practices in supporting charter schools in accessing and financing facilities, including in one or more of the following areas:

(i) Access to public and private (including philanthropic) funding for facilities;

(ii) Access to public facilities, including the right of first refusal;

(iii) Access to per-pupil facilities aid to charter schools to provide the schools with funding that is dedicated solely to charter school facilities;

(iv) Access to credit enhancements and other subsidies;

(v) Access to bonds or mill levies by charter schools, or by other public entities for the benefit of charter schools;

(vi) Access to interest in a facility by purchase, lease, donation, or otherwise, including an interest held by a third party, for the benefit of a charter school; or

(vii) Planning for facility acquisition by charter schools, including comprehensive analysis of facility needs.

To meet this priority, an applicant must propose to disseminate best-practices information widely in more than one State with a charter school law.

Competitive Preference Priority: For FY 2018 and any subsequent year in which we make awards from the list of unfunded applications from this competition, this priority is a competitive preference priority. Under 34 CFR 75.105(c)(2)(i) we award up to an additional five points to an application, depending on how well the application meets this priority.

In order to receive points under this priority, an applicant must identify its response to the priority in the project narrative section of its application and provide documentation supporting its response. If the applicant fails to clearly identify its response to the priority, the Department will not award points under the competitive preference priority.

This priority is:

Competitive Preference Priority—Empowering Families and Individuals To Choose a High-Quality Education That Meets Their Unique Needs (Up to 5 points).

Background

One of the statutory purposes of the CSP is to expand opportunities for children with disabilities (as defined in this notice), English learners, and other traditionally underserved students to attend charter schools and meet challenging State academic standards. This priority is intended to target funding on projects that help provide educational choice to these underserved student groups, which include students who are Indians and students served by rural local educational agencies (as defined in this notice).

An applicant addressing this priority is invited to discuss how its proposed project is designed to increase access to educational choice for one or more of these groups. An applicant might address this priority, for instance, through its plan to develop, identify, or expand best practices related to serving students in one or more of these underserved groups, through disseminating best practices in areas with high concentrations of one or more of these student groups, or by targeting its project work in areas in which students in one or more of the student groups are at risk of educational failure or otherwise in need of special assistance or support.

Priority:

Projects that are designed to address increasing access to educational choice for one or more of the following groups of children or students:

(i) Children or students with disabilities.

(ii) English learners.

(iii) Students who are Indians, as defined in section 6151 of the ESEA.

(iv) Children or students in communities served by rural local educational agencies.

Definitions

The following definitions, as indicated in a parenthetical following the definitions, are from 34 CFR 75.225 and 77.1, the ESEA, and the Supplemental Priorities.

Ambitious means promoting continued, meaningful improvement for program participants or for other individuals or entities affected by the grant, or representing a significant advancement in the field of education research, practices, or methodologies. When used to describe a performance target (as defined in this notice), whether a performance target is ambitious depends upon the context of the relevant performance measure (as defined in this notice) and the baseline (as defined in this notice) for that measure. (34 CFR 77.1)

Authorized public chartering agency means a State educational agency (SEA), local educational agency (LEA), or other public entity that has the authority pursuant to State law and approved by the Secretary to authorize or approve a charter school. (ESEA section 4310(1))

Baseline means the starting point from which performance is measured and targets are set. (34 CFR 77.1)

Charter school means a public school that—

(a) In accordance with a specific State statute authorizing the granting of charters to schools, is exempt from significant State or local rules that inhibit the flexible operation and management of public schools, but not from any rules relating to the other requirements of this definition;

(b) Is created by a developer as a public school, or is adapted by a developer from an existing public school, and is operated under public supervision and direction;

(c) Operates in pursuit of a specific set of educational objectives determined by the school's developer and agreed to by the authorized public chartering agency;

(d) Provides a program of elementary or secondary education, or both;

(e) Is nonsectarian in its programs, admissions policies, employment practices, and all other operations, and is not affiliated with a sectarian school or religious institution;

(f) Does not charge tuition;

(g) Complies with the Age Discrimination Act of 1975, title VI of the Civil Rights Act of 1964, title IX of the Education Amendments of 1972, section 504 of the Rehabilitation Act of 1973, the Americans with Disabilities Act of 1990 (42 U.S.C. 12101 et seq.), section 444 of GEPA (20 U.S.C. 1232g) (commonly referred to as the “Family Educational Rights and Privacy Act of 1974”), and part B of the Individuals with Disabilities Education Act (IDEA);

(h) Is a school to which parents choose to send their children, and that—

(1) Admits students on the basis of a lottery, consistent with section 4303(c)(3)(A) of the ESEA, if more students apply for admission than can be accommodated; or

(2) In the case of a school that has an affiliated charter school (such as a school that is part of the same network of schools), automatically enrolls students who are enrolled in the immediate prior grade level of the affiliated charter school and, for any additional student openings or student openings created through regular attrition in student enrollment in the affiliated charter school and the enrolling school, admits students on the basis of a lottery as described in paragraph (1);

(i) Agrees to comply with the same Federal and State audit requirements as do other elementary schools and secondary schools in the State, unless such State audit requirements are waived by the State;

(j) Meets all applicable Federal, State, and local health and safety requirements;

(k) Operates in accordance with State law;

(l) Has a written performance contract with the authorized public chartering agency in the State that includes a description of how student performance will be measured in charter schools pursuant to State assessments that are required of other schools and pursuant to any other assessments mutually agreeable to the authorized public chartering agency and the charter school; and

(m) May serve students in early childhood educational programs or postsecondary students. (ESEA section 4310(2))

Charter school support organization means a nonprofit, nongovernmental entity that is not an authorized public chartering agency and provides, on a statewide basis—

(a) Assistance to developers during the planning, program design, and initial implementation of a charter school; and

(b) Technical assistance to operating charter schools. (ESEA section 4310(4))

Children or students with disabilities means children with disabilities as defined in IDEA or individuals defined as having a disability under Section 504 of the Rehabilitation Act of 1973 (Section 504) (or children or students who are eligible under both laws). (Supplemental Priorities)

Demonstrates a rationale means a key project component (as defined in this notice) included in the project's logic model (as defined in this notice) is informed by research or evaluation findings that suggest the project component is likely to improve relevant outcomes (as defined in this notice). (34 CFR 77.1)

Developer means an individual or group of individuals (including a public or private nonprofit organization), which may include teachers, administrators and other school staff, parents, or other members of the local community in which a charter school project will be carried out. (ESEA section 4310(5))

Early childhood education program means (A) a Head Start program or an Early Head Start program carried out under the Head Start Act (42 U.S.C. 9831 et seq.), including a migrant or seasonal Head Start program, an Indian Head Start program, or a Head Start program or an Early Head Start program that also receives State funding; (B) a State licensed or regulated child care program; or (C) a program that (i) serves children from birth through age six that addresses the children's cognitive (including language, early literacy, and early mathematics), social, emotional, and physical development; and (ii) is (I) a State prekindergarten program; (II) a program authorized under section 619 or part C of the IDEA; or (III) a program operated by an LEA. (ESEA section 8101(16))

Educational choice means the opportunity for a child or student (or a family member on their behalf) to create a high-quality personalized path for learning that is consistent with applicable Federal, State, and local laws; is in an educational setting that best meets the child's or student's needs; and, where possible, incorporates evidence-based activities, strategies, or interventions. Opportunities made available to a student through a grant program are those that supplement what is provided by a child's or student's geographically assigned school or the institution in which he or she is currently enrolled and may include: Public educational programs or courses including those offered by traditional public schools, public charter schools, public magnet schools, public online education providers, or other public education providers. (Supplemental Priorities)

English learners means individuals who are English learners as defined in section 8101(20) of the ESEA, or individuals who are English language learners as defined in section 203(7) of the Workforce Innovation and Opportunity Act. (Supplemental Priorities)

High-quality charter school means a charter school that—

(a) Shows evidence of strong academic results, which may include strong student academic growth, as determined by a State;

(b) Has no significant issues in the areas of student safety, financial and operational management, or statutory or regulatory compliance;

(c) Has demonstrated success in significantly increasing student academic achievement, including graduation rates where applicable, for all students served by the charter school; and

(d) Has demonstrated success in increasing student academic achievement, including graduation rates where applicable, for each of the subgroups of students, as defined in section 1111(c)(2) of the ESEA, except that such demonstration is not required in a case in which the number of students in a group is insufficient to yield statistically reliable information or the results would reveal personally identifiable information about an individual student. (ESEA section 4310(8))

Indian means an individual who is—

(a) A member of an Indian Tribe or band, as membership is defined by the Tribe or band, including—

(i) Any Tribe or band terminated since 1940; and

(ii) Any Tribe or band recognized by the State in which the Tribe or band resides;

(b) A descendant, in the first or second degree, of an individual described in subparagraph (a);

(c) Considered by the Secretary of the Interior to be an Indian for any purpose;

(d) An Eskimo, Aleut, or other Alaska Native; or

(e) A member of an organized Indian group that received a grant under the Indian Education Act of 1988 as in effect the day preceding the date of enactment of the Improving America's Schools Act of 1994. (ESEA section 6151)

Logic model (also referred to as theory of action) means a framework that identifies key project components of the proposed project (i.e., the active “ingredients” that are hypothesized to be critical to achieving the relevant outcomes) and describes the theoretical and operational relationships among the key project components and relevant outcomes. (34 CFR 77.1)

Performance measure means any quantitative indicator, statistic, or metric used to gauge program or project performance. (34 CFR 77.1)

Performance target means a level of performance that an applicant would seek to meet during the course of a project or as a result of a project. (34 CFR 77.1)

Project component means an activity, strategy, intervention, process, product, practice, or policy included in a project. Evidence may pertain to an individual project component or to a combination of project components (e.g., training teachers on instructional practices for English learners and follow-on coaching for these teachers). (34 CFR 77.1)

Relevant outcome means the student outcome(s) or other outcome(s) the key project component is designed to improve, consistent with the specific goals of the program. (34 CFR 77.1)

Rural local educational agency means an LEA that is eligible under the Small Rural School Achievement (SRSA) program or the Rural and Low-Income School (RLIS) program authorized under Title V, Part B of the ESEA. Eligible applicants may determine whether a particular LEA is eligible for these programs by referring to information on the Department's website at www2.ed.gov/nclb/freedom/local/reap.html. (Supplemental Priorities)

Application Requirements: Applications for CSP National Dissemination Grants funds must address the following application requirements, which we establish for FY 2018 and any subsequent year in which we make awards from the list of unfunded applications from this competition, in accordance with section 437(d)(1) of GEPA, 20 U.S.C. 1232(d)(1). An applicant may choose to respond to these requirements in the context of its responses to the selection criteria in section V.1 of this notice.

(a) Provide a project plan, which includes a logic model, that describes the purpose of the project based on the absolute priority (e.g., “to strengthen charter school authorizing”); includes clearly specified, measurable project objectives that are aligned with the project purpose; and includes the specific strategies and initiatives that will be implemented to accomplish project objectives. For each project objective, the project plan must include—

(i) Inputs and Resources: Identification of the specific costs that will be allocated to the proposed project. These costs must represent the inputs and resources (e.g., personnel, contracted services, supplies, and equipment) that are necessary to generate and support grant project activities, and are necessary to produce project outputs. Applicants must ensure that the total project costs, as identified in this section, are consistent with the budget form 524 B and response to selection criterion (c);

(ii) Project Activities: Identification of the specific activities proposed to be funded under the grant; the estimated cost of those activities under the grant project; and how these activities are linked to the target grant project outputs and outcomes;

(iii) Project Outputs: Identification of the specific project deliverables, work products, and other outputs of the proposed project, including the cost of those outputs. Examples of outputs include—

(1) Best practice publications and products;

(2) Evaluation reports; and

(3) Presentation of a session at a conference delivering best practices for stakeholders.

(iv) Project Outcomes: Identification of the anticipated project outcomes or effects as a result of the proposed project.

(b) Provide a management plan that describes clearly defined responsibilities, timelines, and milestones for executing the project and achieving project outcomes.

(c) Provide a dissemination plan that includes the number and description of States, charter schools, or authorized public chartering agencies to which best-practices information will be disseminated, as well as a description of the mechanisms the applicant will use to disseminate information on its proposed projects.

(d) Provide an evaluation plan that includes performance measures that are aligned to the project purpose, project objectives, and project outcomes as well as to the intended outcomes of the proposed project.

Waiver of Proposed Rulemaking: Under the Administrative Procedure Act (5 U.S.C. 553), the Department generally offers interested parties the opportunity to comment on proposed priorities, selection criteria, definitions, and requirements. Section 437(d)(1) of GEPA, however, allows the Secretary to exempt from rulemaking requirements regulations governing the first grant competition under a new or substantially revised program authority. This is the first grant competition for this program under section 4305(a)(3) of the ESEA, and, therefore, this competition qualifies for this exemption. In order to ensure timely grant awards, the Secretary has decided to forgo public comment on the priorities, requirements, definitions, and selection criteria in this notice in accordance with section 437(d)(1) of GEPA. These priorities, requirements, definitions, and selection criteria will apply to grants awarded under this competition in FY 2018 and any subsequent year in which we make awards from the list of unfunded applications from this competition.

Program Authority: Section 4305(a)(3)(B) of the ESEA, 20 U.S.C. 7221d.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended in 2 CFR part 3474. (d) The Supplemental Priorities.

II. Award Information

Type of Award: Discretionary grants.

Estimated Available Funds: $4,500,000.

Contingent upon the availability of funds and the quality of applications, we may make additional awards in FY 2019 from the list of unfunded applications from this competition.

Estimated Range of Awards: $500,000-$800,000 per year.

Estimated Average Size of Awards: $650,000 per year.

Estimated Number of Awards: 5-9.

Note: The Department is not bound by any estimates in this notice. The estimated range and average size of awards are based on a single 12-month budget period. We may use FY 2018 funds to support multiple 12-month budget periods for one or more grantees.

Project Period: Up to 36 months.

III. Eligibility Information

1. Eligible Applicants: We are establishing the eligible entities for this competition in accordance with section 437(d)(1) of GEPA, 20 U.S.C. 1232(d)(1). Eligible applicants include: SEAs; State charter school boards; State Governors; charter school support organizations (as defined in this notice); authorized public chartering agencies; and public and private nonprofit organizations that operate, manage, or support charter schools.

Eligible applicants may apply as a partnership or consortium and, if so applying, must comply with the requirements for group applications set forth in 34 CFR 75.127-129.

Public and private nonprofit organizations that operate, manage, or support charter schools must apply in partnership with one or more SEAs, State charter school boards, State Governors, charter school support organizations, or authorized public chartering agencies.

2. Cost Sharing or Matching: This competition does not require cost sharing or matching.

3. Subgrants: A grantee under this competition may not award subgrants to entities to directly carry out project activities described in its application.

IV. Application and Submission Information

1. Application Submission Instructions: For information on how to submit an application please refer to our Common Instructions for Applicants to Department of Education Discretionary Grant Programs, published in the Federal Register on February 12, 2018 (83 FR 6003) and available at www.gpo.gov/fdsys/pkg/FR-2018-02-12/pdf/2018-02558.pdf.

2. Submission of Proprietary Information: Given the types of projects that may be proposed in applications for the National Dissemination Grants competition, your application may include business information that you consider proprietary. In 34 CFR 5.11 we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This program is subject to Executive Order 12372 and the regulations in 34 CFR part 79. Information about Intergovernmental Review of Federal Programs under Executive Order 12372 is in the application package for this competition.

4. Funding Restrictions: Grant funds may be used only for activities that are related to the development, identification, expansion, and dissemination of information on best practices regarding the absolute priority to which the applicant is responding and that are included in the grantee's approved application. Grantees are expected to identify the specific costs associated with each included activity.

Grantees may not use grant funds to conduct charter school authorizing activities, or to open new charter schools.

Grantees may not use grant funds to acquire or finance the acquisition of a charter school facility, including through credit enhancement, direct lending, or subgrants.

Grantees may not use grant funds for general organizational operating support beyond the costs associated with this grant project.

In accordance with section 437(d)(1) of GEPA, 20 U.S.C. 1232(d)(1), we establish that no more than 5 percent of grant funds may be used for direct administration of the grant project.

Costs for Evaluation: In accordance with 34 CFR 75.590, CSP National Dissemination Grants funds may be used to cover post-award costs associated with an evaluation described in response to Selection Criterion (e) of this notice, provided that such costs are reasonable and necessary to meet the objectives of the approved project.

We reference additional regulations outlining funding restrictions in the Applicable Regulations section of this notice.

5. Recommended Page Limit: The application narrative (Part III of the application) is where you, the applicant, address the priorities, selection criteria, and application requirements that reviewers use to evaluate your application. We recommend that you (1) limit the application narrative to no more than 60 pages and (2) use the following standards:

• A “page” is 8.5″ x 11″, on one side only, with 1” margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to Part I, the cover sheet; Part II, the budget section, including the narrative budget justification; Part IV, the assurances and certifications; or the one-page abstract, the resumes, the bibliography, or the letters of support. However, the recommended page limit does apply to all of the application narrative.

6. Pre-Application Webinar: The Department will hold a pre-application meeting via webinar for prospective applicants on Thursday, June 7, at 1:00 p.m., Washington, DC time. Individuals interested in attending this meeting are encouraged to pre-register by emailing their name, organization, and contact information with the subject heading “PRE-APPLICATION MEETING” to CharterSchools@ed.gov. There is no registration fee for attending this meeting.

V. Application Review Information

1. Selection Criteria: The selection criteria for this competition are from 34 CFR 75.210. The maximum possible score for addressing all of the criteria in this section is 100 points. The maximum possible score for addressing each criterion is indicated in parentheses following the criterion.

In evaluating an application, the Secretary considers the following criteria:

(a) Significance of the proposed project (35 points). The Secretary considers the significance of the proposed project. In determining the significance of the proposed project, the Secretary considers the following factors:

(1) The potential for generalizing from the findings or results of the proposed project;

(2) The extent to which the results of the proposed project are to be disseminated in ways that will enable others to use the information or strategies;

(3) The likelihood that the proposed project will result in system change or improvement; and

(4) The extent to which the proposed project is likely to build local capacity to provide, improve, or expand services that address the needs of the target population.

(b) Quality of the project design (30 points).

The Secretary considers the quality of the design of the proposed project. In determining the quality of the design of the proposed project, the Secretary considers the following factors:

(1) The extent to which the proposed project demonstrates a rationale (as defined in 34 CFR 77.1(c));

(2) The extent to which the goals, objectives, and outcomes to be achieved by the proposed project are clearly specified and measurable;

(3) The extent to which the proposed project represents an exceptional approach to the priority or priorities established for the competition; and

(4) The mechanisms the applicant will use to broadly disseminate information on its project so as to support further development or replication.

(c) Quality of the management plan and adequacy of resources (15 points).

The Secretary considers the quality of the management plan and adequacy of resources for the proposed project. In determining the quality of the management plan and adequacy of resources for the proposed project, the Secretary considers the following factors:

(1) The adequacy of the management plan to achieve the objectives of the proposed project on time and within budget, including clearly defined responsibilities, timelines, and milestones for accomplishing project tasks;

(2) The extent to which the costs are reasonable in relation to the objectives, design, and potential significance of the proposed project; and

(3) The relevance and demonstrated commitment of each partner in the proposed project to the implementation and success of the project.

(d) Quality of the project personnel (10 points).

The Secretary considers the quality of the personnel who will carry out the proposed project. In determining the quality of project personnel, the Secretary considers the following factors:

(1) The extent to which the applicant encourages applications for employment from persons who are members of groups that have traditionally been underrepresented based on race, color, national origin, gender, age, or disability;

(2) The qualifications, including relevant training and experience, of the project director or principal investigator; and

(3) The qualifications, including relevant training and experience, of key project personnel.

(e) Quality of the project evaluation (10 points).

The Secretary considers the quality of the evaluation to be conducted of the proposed project. In determining the quality of the evaluation, the Secretary considers the extent to which the methods of evaluation include the use of objective performance measures that are clearly related to the intended outcomes of the project and will produce quantitative and qualitative data to the extent possible.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.205, before awarding grants under this competition the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $150,000), under 2 CFR 200.205(a)(2), we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee under this competition must have a plan to disseminate these public grant deliverables. For additional information on the open licensing requirements please refer to 2 CFR 3474.20(c).

4. Reporting: (a) If you apply for a grant under this competition, you must ensure that you have in place the necessary processes and systems to comply with the reporting requirements in 2 CFR part 170 should you receive funding under the competition. This does not apply if you have an exception under 2 CFR 170.110(b).

(b) All grantees must provide to the Department their most recent available independent audits of their organization's financial statements prepared in accordance with generally accepted accounting principles, and all grantees must continue to provide available independent, annual audits of their financial statements prepared in accordance with generally accepted accounting principles each year of the grant. (GEPA exemption)

(c) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(d) Under 34 CFR 75.250(b), the Secretary may provide a grantee with additional funding for data collection analysis and reporting. In this case the Secretary establishes a data collection period.

5. Performance Measures:

Project-Specific Performance Measures. Applicants must propose project-specific performance measures and performance targets consistent with the objectives of the proposed project and the project outcomes identified in the logic model. The project-specific performance measures should be sufficient to gauge progress throughout the grant period, at least on an annual basis, and to show results by the end of the grant period. Applicants must provide the following information as directed under 34 CFR 75.110(b) and (c):

(1) Performance measures. How each proposed performance measure would accurately measure the performance of the project and how the proposed performance measure would be consistent with the performance measures established for the program funding the competition.

(2) Baseline data. (i) Why each proposed baseline is valid; or (ii) If the applicant has determined that there are no established baseline data for a particular performance measure, an explanation of why there is no established baseline and of how and when, during the project period, the applicant would establish a valid baseline for the performance measure.

(3) Performance targets. Why each proposed performance target is ambitious (as defined in this notice) yet achievable compared to the baseline for the performance measure and when, during the project period, the applicant would meet the performance target(s).

(4) Data collection and reporting. (i) The data collection and reporting methods the applicant would use and why those methods are likely to yield reliable, valid, and meaningful performance data; and (ii) The applicant's capacity to collect and report reliable, valid, and meaningful performance data, as evidenced by high-quality data collection, analysis, and reporting in other projects or research.

All grantees must submit an annual performance report with information that is responsive to these performance measures.

For technical assistance in developing effective performance measures, applicants are encouraged to review information provided by the Department's Regional Educational Laboratories (RELs). The RELs seek to build the capacity of States and school districts to incorporate data and research into education decision-making. Each REL provides research support and technical assistance to its region but makes learning opportunities available to educators everywhere. For example, the REL Northeast and Islands has created the following resource on logic models: https://ies.ed.gov/ncee/edlabs/regions/northeast/pdf/REL_2015057.pdf.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

7. Project Director's Meeting: Applicants approved for funding under this competition must attend a two-day meeting for project directors at a location to be determined in the continental United States during each year of the project. Applicants may include the cost of attending this meeting in their proposed budgets.

VII. Other Information

Accessible Format: Individuals with disabilities can obtain this document and a copy of the application package in an accessible format (e.g., Braille, large print, audiotape, or compact disc) on request to the program contact person listed under FOR FURTHER INFORMATION CONTACT.

Electronic Access to This Document: The official version of this document is the document published in the Federal Register. You may access the official edition of the Federal Register and the Code of Federal Regulations via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: May 31, 2018.
Margo Anderson,
Acting Assistant Deputy Secretary for Innovation and Improvement.

[FR Doc. 2018-12068 Filed 6-4-18; 8:45 am]

BILLING CODE 4000-01-P